DEPARTMENT OF DEFENSE

Department of the Army; Corps of Engineers

Availability of a Final Environmental Impact Statement To Consider Issuance of a Department of the Army Permit Pursuant to Section 404 of the Clean Water Act for Mingo Logan Coal Company's (Mingo Logan) Proposal To Construct and Operate Spruce No. 1 Mine in Logan County, WV

AGENCY: Department of the Army, U.S. Army Corps of Engineers, DoD.

ACTION: Notice of availability.

SUMMARY: In accordance with the requirements of the National Environmental Policy Act (NEPA), the U.S. Army Corps of Engineers (USACE) Huntington District has prepared a Final Environmental Impact Statement (FEIS). This FEIS evaluates potential impacts to the natural, physical and human environment as a result of the proposed mining activities associated with the Mingo Logan's proposed Spruce No. 1 Mine. The USACE regulates this proposed project pursuant to Section 404 of the Clean Water Act. The proposed activity would involve the discharge of dredged and fill material into waters of the United States associated with the proposed construction and operation of a bituminous coal mine. The document was prepared following a public review and a 60-day comment period on the Draft Environmental Impact Statement (DEIS), during which time a public hearing meeting was held on May 1, 2006. The meeting was held at the Earl Ray Tomlin Convention Center in Chapmanville, Logan County, WV.

DATES: Submit comments by October 23, 2006.

ADDRESSES: Send written comments and suggestions concerning this proposal to Mrs. Teresa Spagna, Regulatory Project Manager, Regulatory Branch, CELRH-OF-FS, U.S. Army Corps of Engineers, Huntington District, 502 8th Street, Huntington, WV 25701. Requests to be placed on the mailing list should also be sent to this address.

FOR FURTHER INFORMATION CONTACT: Mrs. Teresa Spagna, Regulatory Project Manager at (304) 399-5710 or electronic mail at Teresa.D.Spagna@Lrh01.usace.army.mil.

SUPPLEMENTARY INFORMATION: Discharges of dredged and fill material into waters of the United States are regulated by the USACE under Section 404 of the Clean Water Act. Mingo Logan must also address the proposed project's environmental impacts relative to other regulations including the Clean Air Act, other sections for the Clean Water Act, Endangered Species Act and the Fish and Wildlife Coordination Act. In accordance with NEPA, the FEIS evaluates practicable alternatives for the USACE's decision making process. As required by NEPA, the USACE also analyzes the “no action” alternative as a baseline for gauging potential impacts.

Copies of the FEIS may be obtained by contacting USACE Huntington District Regulatory Branch at (304) 399-5210 or (304) 399-5710.

Copies of the FEIS are also available for inspection at the locations identified below:

(1) Blair Post Office, P.O. Box 9998, Blair, WV 25022-9998.

(2) Kanawha County Public Library, 123 Capital Street, Charleston, WV 25301.

(3) Logan County Public Library, 16 Wildcat Way, Logan, WV 25601.

The Record of Decision (ROD) will be signed no sooner than 31 days after publication of the notice of availability in the Federal Register by the U.S. Environmental Protection Agency.

Brenda S. Bowen,
Army Federal Register Liaison Officer.

[FR Doc. 06-8120 Filed 9-21-06; 8:45 am]

BILLING CODE 3710-GM-M